DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 6, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 26, 2016.
Roy E. Wright,
Deputy Associate Administrator for Insurance and Mitigation, Department of Homeland Security, Federal Emergency Management Agency.

Community | Community map repository address
Harris County, Texas and Incorporated Areas
Docket No.: FEMA-B-1343
City of Baytown | City Hall, 2401 Market Street, Baytown, TX 75522.
City of Deer Park | City Hall, 710 East San Augustine, Deer Park, TX 77536.
City of El Lago | City Hall, 411 Tallowood Drive, El Lago, TX 77586.
City of Galena Park | City Hall, 2000 Clinton Drive, Galena Park, TX 77547.
City of Houston | Floodplain Management Office, 1002 Washington Avenue, 3rd Floor, Houston, TX 77002.
City of Jacinto City | Jacinto City City Hall, 1301 Mercury Drive, Houston, TX 77029.
City of La Porte | City Hall, 604 West Fairmont Parkway, La Porte, TX 77571.
City of Morgan's Point | City Hall, 1415 East Main Street, Morgan's Point, TX 77571.
City of Nassau Bay | City Hall, 1800 Space Park Drive, Suite 200, Nassau Bay, TX 77058.
City of Pasadena | Municipal Services Building, 1114 Davis Street, Pasadena, TX 77506.
City of Seabrook | City Hall, 1700 1st Street, Seabrook, TX 77586.
City of Shoreacres | City Hall, 601 Shore Acres Boulevard, Shoreacres, TX 77571.
City of South Houston | City Hall, 1018 Dallas Street, South Houston, TX 77587.
City of Taylor Lake Village | City Hall, 500 Kirby Boulevard, Taylor Lake Village, TX 77586.
City of Webster | City Hall, 101 Pennsylvania Avenue, Webster, TX 77598.
Unincorporated Areas of Harris County | Harris County Permit Office, 10555 Northwest Freeway, Suite 120, Houston, TX 77092.

[FR Doc. 2016-22848 Filed 9-21-16; 8:45 am]

BILLING CODE 9110-12-P